DEPARTMENT OF COMMERCE

National Oceanic and Atmospheric Administration

50 CFR Parts 223 and 224

RIN 0648-XD267

Endangered and Threatened Wildlife; 90-Day Finding on a Petition To Identify the Central North Pacific Population of Humpback Whale as a Distinct Population Segment (DPS) and Delist the DPS Under the Endangered Species Act; Extension of Public Comment Period

AGENCY: National Marine Fisheries Service (NMFS), National Oceanic and Atmospheric Administration (NOAA), Commerce.

ACTION: Extension of public comment period.

SUMMARY: We, NMFS, announce the extension of the public comment period on our June 26, 2014, 90-day finding on a petition to designate the Central North Pacific population of humpback whale (Megaptera novaeangliae) as a Distinct Population Segment (DPS) and delist the DPS under the Endangered Species Act (ESA). As part of that finding, we solicited scientific and commercial information about the status of this population and announced a 30-day comment period to end on July 28, 2014. Today, we extend the public comment period to August 27, 2014. Comments previously submitted need not be resubmitted, as they will be fully considered in the agency's final determination.

DATES: The deadline for receipt of comments is extended from July 28, 2014 until August 27, 2014.

ADDRESSES: You may submit comments on this document, identified by FDMS Docket Number NOAA-NMFS-2014-0051, by any of the following methods:

• Electronic Submission: Submit all electronic public comments via the Federal e-Rulemaking Portal. Go to www.regulations.gov/#!docketDetail;D=NOAA-NMFS-2014-0051, click the “Comment Now!” icon, complete the required fields, and enter or attach your comments.

• Mail: Address written comments to Jon Kurland, Assistant Regional Administrator for Protected Resources, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Interested persons may obtain a copy of the petition online at the NMFS Alaska Region Web site: http://alaskafisheries.noaa.gov/protectedresources/whales/humpback/.

FOR FURTHER INFORMATION CONTACT: Aleria Jensen, NMFS Alaska Region, (907) 586-7248 or Jon Kurland, NMFS Alaska Region, (907) 586-7638.

SUPPLEMENTARY INFORMATION:

Background

On June 26, 2014 we published a proposed rule (79 FR 36281) announcing a positive 90-day finding on a petition to designate the Central North Pacific population of humpback whale as a Distinct Population Segment (DPS) and delist the DPS under the Endangered Species Act (ESA). In that notice we also solicited comments and information from the public to inform the continued development of our humpback whale status review to determine whether the Central North Pacific humpback whale population constitutes a DPS under the ESA, and if so, the risk of extinction to this DPS.

We have received requests to extend the public comment period by 30 days to be consistent with previous 60-day comment periods for other listing and delisting actions under the ESA. Given the complexity of the issues raised in the petition, this extension would provide the public with additional time to gather relevant information and adequately comment on the validity of the petitioned action in a meaningful and constructive manner. We considered these requests and concluded that a 30-day extension should allow sufficient time for responders to submit comments without significantly delaying the completion of the status review. We are therefore extending the close of the public comment period from July 28, 2014, to August 27, 2014. Although we have extended the public comment period, we are unable to extend the deadline for completing the status review. As such, we urge members of the public to submit their comments as soon as possible to allow us more time to review and incorporate the submitted information where appropriate.

Authority: The authority for this action is the Endangered Species Act of 1973, as amended (16 U.S.C. 1531 et seq.).

Dated: July 7, 2014.
Perry F. Gayaldo,
Deputy Director, Office of Protected Resources, National Marine Fisheries Service.

[FR Doc. 2014-16150 Filed 7-10-14; 8:45 am]

BILLING CODE 3510-22-P